Title 3—

The President

Presidential Determination No. 2001-09 of January 3, 2001

U.S. Contribution to the Korea Peninsula Energy Development Organization (KEDO): Certification and Waiver Under the Heading ``Nonproliferation, Anti-Terrorism, Demining and Related Programs'' in Title II of the Foreign Operations, Export Financing, and Related Programs Appropriations Act, 2001, as Enacted in Public Law 106-429

Memorandum for the Secretary of State

Pursuant to section 572(b) of the Foreign Operations, Export Financing, and Related Programs Appropriations Act, 2001, (the ``Act'') (Public Law 106-429), I hereby certify that:

(1) the parties to the Agreed Framework have taken and continue to take demonstrable steps to implement the Joint Declaration on Denuclearization of the Korean Peninsula in which the Government of North Korea has committed not to test, manufacture, produce, receive, possess, store, deploy, or use nuclear weapons, and not to possess nuclear reprocessing or uranium enrichment facilities;

(2) the parties to the Agreed Framework have taken and continue to take demonstrable steps to pursue the North-South dialogue;

(3) North Korea is complying with all provisions of the Agreed Framework;

(6) North Korea is complying with its commitments regarding access to suspect underground construction at Kumchang-ni; and

(8) the United States is continuing to make significant progress on eliminating the North Korean ballistic missle threat, including further missle tests and its ballistic missle exports.

Pursuant to the authority vested in me by section 572(c) of the Act, I hereby determine that it is vital to the national security interests of the United States to waive the certification requirements of section 572(b) of the Act with respect to paragraphs (4), (5), and (7) of section 572(b) and therefore hereby waive those three certification requirements in order to furnish up to $55 million in funds made available under the heading ``Nonproliferation, Anti-terrorism, Demining and Related Programs'' of the Act, for assistance for KEDO.

You are hereby authorized and directed to report this certification and waiver and the accompanying Memorandum of Justification to the Congress and to arrange for publication of the certification and waiver in the Federal Register.

wj

THE WHITE HOUSE,

Washington, January 3, 2001

[FR Doc. 01-1061

Filed 01-10-01; 8:45 am]

Billing code 4710-10-M